DEPARTMENT OF EDUCATION

Applications for New Awards; Indian Education Discretionary Grants Programs—Native American Language Program

AGENCY: Office of Elementary and Secondary Education, Department of Education.

ACTION: Notice.

SUMMARY: The Department of Education is issuing a notice inviting applications for fiscal year (FY) 2024 for Indian Education Discretionary Grants Programs—Native American Language (NAL@ED) program, Assistance Listing Number (ALN) 84.415B. This notice relates to the approved information collection under OMB control number 1810-0731.

DATES:

Applications Available: November 28, 2023.

Deadline for Notice of Intent to Apply: January 17, 2024.

Date of Pre-Application Meeting: December 26, 2023.

Deadline for Transmittal of Applications: March 7, 2024.

Deadline for Intergovernmental Review: May 6, 2024.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Donna Sabis-Burns, U.S. Department of Education, 400 Maryland Avenue SW, Room 4B116, Washington, DC 20202-6335. Telephone: (202) 213-9014. Email: Donna.Sabis-Burns@ed.gov.

If you are deaf, hard of hearing, or have a speech disability and wish to access telecommunications relay services, please dial 7-1-1.

SUPPLEMENTARY INFORMATION:

Full Text of Announcement

I. Funding Opportunity Description

Purpose of Program: The purposes of this program are to (1) support schools that use Native American and Alaska Native languages as the primary language of instruction; (2) maintain, protect, and promote the rights and freedom of Native Americans and Alaska Natives to use, practice, maintain, and revitalize their languages, as envisioned in the Native American Languages Act of 1990 (25 U.S.C. 2901, et seq.); and (3) support the Nation's First Peoples' efforts to maintain and revitalize their languages and cultures, and to improve educational opportunities and student outcomes within Native American and Alaska Native communities.

Background: The Department encourages applicants to propose a broad range of activities to achieve these purposes, including activities that are aligned with the Administration's policy focus areas and with the needs described by Tribal leaders and the education field during the March 17, 2022, Department-sponsored listening session, “Advancing the Interagency Memorandum of Agreement on Native Languages: Promising Practices and Persistent Barriers.” Specifically, we encourage promoting education equity and adequacy in resources and opportunity for underserved students, including rigorous, engaging, and well-rounded approaches to learning that are inclusive regarding culture and language and prepare students for college, career, and civic life. Activities that support Native American language education and development include implementing inclusive pedagogical practices in professional development programs; using technology to support evidence-based approaches to personalized student learning in the classroom; and increasing the number and diversity of experienced and effective educators, including those from the community they serve.

In addition, the Department intends for the NAL@ED program to have a broad impact in three ways. First, the Department will fund only one high-quality project per Native language under this competition, provided there are enough high-quality applications. This is consistent with the statutory requirement that the Department ensure a diversity of languages are represented to the maximum extent feasible. Second, in addition to soliciting applications from existing Native language instructional programs (Absolute Priority 2), the Department is soliciting applications supporting new Native language instructional programs via Absolute Priority 1. Third, the Department will not exclusively fund applicants from a single State, provided there is a sufficient number of high-quality applications (Program Requirement 3). This approach will help ensure the program has a broad impact by funding projects supporting a variety of Native languages.

Priorities: This competition includes two absolute priorities and two competitive preference priorities. These priorities are from the notice of final priorities, requirements, definitions, and selection criteria for this program published in the Federal Register on July 14, 2020 (85 FR 42305) (NFP).

Absolute Priorities: For FY 2024 and any subsequent year in which we make awards from the list of unfunded applications from this competition, these priorities are absolute priorities. Under 34 CFR 75.105(c)(3), we consider only applications that meet either Absolute Priority 1 or 2.

Note: The Department may create two funding slates—one for applications that meet Absolute Priority 1 and a separate slate for applications that meet Absolute Priority 2. As a result, the Secretary may fund applications out of the overall rank order, but the Department is not bound to do so. Applicants must clearly identify the specific absolute priority that the proposed project addresses in the project abstract section of the application.

These priorities are:

Absolute Priority 1: Develop and Maintain New Native American Language Programs.

To meet this priority, an applicant must propose to develop and maintain a Native American language instructional program that—

(a) Will support Native American language education and development for Native American students, as well as provide professional development for teachers and, as appropriate, staff and administrators, to strengthen the overall language and academic goals of the school or schools that will be served by the project;

(b) Will take place in a school; and

(c) Does not augment or replace a program of identical scope that was active within the last three years at the school(s) to be served.

Absolute Priority 2: Expand and Improve Existing Native American Language Programs.

To meet this priority, an applicant must propose to improve and expand a Native American language instructional program that—

(a) Will improve and expand Native American language education and development for Native American students, as well as provide professional development for teachers and, as appropriate, staff and administrators, to strengthen the overall language and academic goals of the school or schools that will be served by the project;

(b) Will continue to take place in a school; and

(c) Within the past three years has been offered at the school(s) to be served.

Competitive Preference Priorities: For FY 2024 and any subsequent year in which we make awards from the list of unfunded applications from this competition, these priorities are competitive preference priorities. Under 34 CFR 75.105(c)(2)(i) we award up to an additional 7 points to an application, depending on how well an application meets Competitive Preference Priority 1, and we award an additional 5 points to an application that meets Competitive Preference Priority 2. The maximum number of competitive preference priority points is 12.

These priorities are:

Competitive Preference Priority 1: Support Project Sustainability With Title VI Indian Education Formula Grant Funds. (Up to 7 points).

To meet this priority, an applicant or a partner must receive, or be eligible to receive, a formula grant under title VI of the Elementary and Secondary Education Act of 1965, as amended (ESEA), and must commit to use all or part of that formula grant to help sustain this project after the conclusion of the grant period. To meet this priority, an applicant must include in its application—

(a) A statement that indicates the school year in which the entity will begin using title VI formula grant funds to help support this project;

(b) The percentage of the title VI grant that will be used for the project, which must be at least—

(i) 20 percent of the applicant's title VI formula grant (3 points);

(ii) 40 percent of the applicant's title VI formula grant (4 points);

(iii) 60 percent of the applicant's title VI formula grant (5 points);

(iv) 80 percent of the applicant's title VI formula grant (6 points); or

(v) 100 percent of the applicant's title VI formula grant (7 points); and

(c) The timeline for obtaining parent committee input and approval of this action, if necessary.

Competitive Preference Priority 2: Preference for Indian Applicants. (0 or 5 points).

To meet this priority, an application must be submitted by an Indian Tribe, Indian organization, Bureau of Indian Education (BIE)-funded school, or Tribal College or University (TCU) that is eligible to participate in the NAL@ED program. A consortium of eligible entities that meets the requirements of 34 CFR 75.127 through 75.129 and includes an Indian Tribe, Indian organization, BIE-funded school, or TCU will also be considered eligible to meet this priority. In order to be considered a consortium application, the application must include the consortium agreement signed by all parties.

Note: The consortium agreement must state that the members designate one member of the group to apply for the grant, detail the activities that each member of the group plans to perform, and bind each member of the group to every statement and assurance made by the applicant in the application (34 CFR 75.128(a) and (b)).

Application Requirements: These application requirements are from section 6133(c) of the ESEA (20 U.S.C. 7453) and from the NFP. For FY 2024 and any subsequent year in which we make awards from the list of unfunded applications from this competition, applicants must meet the following application requirements.

(1) General Requirements. An applicant must include the following information in its application—

(a) A completed information form that includes:

(i) Instructional language. The name of the Native American or Alaska Native language to be used for instruction at the school(s) supported by the eligible entity.

(ii) Students to be served. The number of students to be served by the project and the grade level(s) of targeted students in the proposed project.

(iii) Instructional hours. The number of hours of instruction per week in and through one or more Native American or Alaska Native languages currently being provided to targeted students at such school(s), if any.

(iv) Pre- and post-assessments. Whether a pre- and post-assessment of Native American language proficiency is available and, if not, the percentage of grant funds that will be used for developing such assessment.

(v) Program description. A description of how the eligible entity will support Native American language education and development, and provide professional development for staff, in order to strengthen the overall language and academic goals of the school(s) that will be served by the project; ensure the implementation of rigorous academic content that prepares all students for college and career; and ensure that students progress toward meeting high-level fluency goals in the Native American language.

(vi) Organizational information. For each school included in the project, information regarding the school's organizational governance or affiliations, including information about the school's governing entity (such as a local educational agency (LEA), Tribal educational agency or department, charter organization, private organization, or other governing entity); the school's accreditation status; any partnerships with institutions of higher education (IHEs); and any indigenous language schooling and research cooperatives.

(b) An assurance that for each school to be included in the project—

(i) The school is engaged in meeting State or Tribally designated long-term goals for students, as may be required by applicable Federal, State, or Tribal law;

(ii) The school provides assessments of students using the Native American or Alaska Native language of instruction, where possible;

(iii) The qualifications of all instructional and leadership personnel at such school are sufficient to deliver high-quality education through the Native American or Alaska Native language used in the school; and

(iv) The school will collect and report to the public data relative to student achievement and, if appropriate, rates of high school graduation, career readiness, and enrollment in postsecondary education or workforce development programs, of students who are enrolled in the school's programs.

(2) Memorandum of Agreement. Any applicant that proposes to work with a partner to carry out the proposed project must include a signed and dated memorandum of agreement that describes the roles and responsibilities of each partner to participate in the grant, including—

(a) A description of how each partner will implement the project according to the timelines described in the grant application;

(b) The roles and responsibilities of each partner related to ensuring the data necessary to report on the Government Performance and Results Act (GPRA) indicators; ¹ and

¹ The Department notes that such reporting will be required in connection with the performance measurement requirements under 34 CFR 75.110, rather than indicators under GPRA. For further information, see section 4 (Performance Measures) under VI. Award Administration Information.

(c) The roles and responsibilities of each partner related to ensuring that Native American language instructors can be recruited, retained, and trained, as appropriate, in a timely manner.

This memorandum of agreement must be signed no more than four months prior to the application deadline (i.e., the agreement must be signed within the four months prior to the application deadline).

(3) Applicant Engagement with Indian Tribes and Tribal Organizations. All non-Tribal applicants must engage with appropriate officials from Tribe(s) located in the area served by the project, or with a local Tribal organization, prior to submission of an application. The engagement must provide for the opportunity for officials from Tribes or Tribal organizations to meaningfully and substantively contribute to the application. Non-Tribal applicants must submit evidence of either Tribal engagement or a letter of support from one or more Tribes or Tribal organizations. This evidence can be part of the memorandum of agreement required by Application Requirement 2 or can be uploaded as a separate attachment.

Note: If an applicant is an affected LEA that is subject to ESEA section 8538, then the LEA is required to consult with appropriate officials from Tribe(s) or Tribal organizations approved by the Tribes located in the area served by the LEA prior to its submission of an application, on the contents of the application as required under ESEA section 8538. Affected LEAs are those that have 50 percent or more of their student enrollment made up of Native American students or received an Indian education formula grant under title VI of the ESEA in the previous fiscal year that exceeds $40,000. (ESEA sec. 8538)

(4) Certification. An applicant that is an LEA (including a public charter school that is an LEA under State law), a school operated by the BIE, or a nontribal for-profit or nonprofit organization must submit a certification from an entity described in application requirement (4)(a), containing the assurances described in application requirement (4)(b).

(a) The certification must be from one of the following entities, on whose land the school or program is located, or that is an entity served by the school, or whose members (as defined by that entity) are served by the school:

(i) A federally recognized Indian Tribe or Tribal organization.

(ii) A TCU.

(iii) An Alaska Native Regional Corporation or an Alaska Native nonprofit organization.

(iv) A Native Hawaiian organization.

(b) The certification must state that—

(i) The school or applicant organization has the capacity to provide education primarily through a Native American or an Alaska Native language; and

(ii) There are sufficient speakers of the target language at the school or available to be hired by the school or applicant organization.

Program Requirements: For FY 2024 and any subsequent year in which we make awards from the list of unfunded applications from this competition, grantees must adhere to the following program requirements:

(1) Native American Language Proficiency Assessment. Grantees must administer pre- and post-assessments of Native American language proficiency to participating students. This Native American language assessment may be any relevant tool that measures student Native American language proficiency, such as oral, written, or project-based assessments, and formative or summative assessments.

(2) Diversity of Languages. To ensure a diversity of languages as required by statute, the Department will not fund more than one project in any competition year that proposes to use the same Native American language, assuming there are enough high-quality applications. In the event of a lack of high-quality applications in one competition year, the Department may choose to fund more than one project with the same Native American language.

(3) Geographic Distribution. To ensure geographic diversity, assuming there are enough high-quality applications, the Department will not exclusively fund projects that all propose to serve students in the same State in any competition year. In the event of a lack of high-quality applications in one competition year, the Department may choose to fund only applications that propose to provide services in one State.

(4) ISDEAA Statutory Hiring Preference:

(a) Awards that are primarily for the benefit of Indians are subject to the provisions of section 7(b) of the Indian Self-Determination and Education Assistance Act (ISDEAA) (Pub. L. 93-638). That section requires that, to the greatest extent feasible, a grantee—

(1) Give to Indians preferences and opportunities for training and employment in connection with the administration of the grant; and

(2) Give to Indian organizations and to Indian-owned economic enterprises, as defined in section 3 of the Indian Financing Act of 1974 (25 U.S.C. 1452(e)), preference in the award of contracts in connection with the administration of the grant. (25 U.S.C. 5307(b))

(b) For purposes of this section, an Indian is a member of any federally recognized Indian Tribe.

Definitions: The definitions of “Indian organization (or Tribal organization)” and “Tribe” are from the NFP. The definitions of “Native American,” “Native American language,” and “Tribal college or university” are from the ESEA. The specific sections of the ESEA are included in parentheticals.

Indian organization (or Tribal organization) means an organization that—

(1) Is legally established—

(i) By Tribal or inter-Tribal charter or in accordance with State or Tribal law; and

(ii) With appropriate constitution, bylaws, or articles of incorporation;

(2) Includes in its purposes the promotion of the education of Indians;

(3) Is controlled by a governing board, the majority of which is Indian;

(4) If located on an Indian reservation, operates with the sanction of or by charter from the governing body of that reservation;

(5) Is neither an organization or subdivision of, nor under the direct control of, any IHE or TCU; and

(6) Is not an agency of State or local government.

Native American means:

(1) “Indian” as defined in section 6151(3) of the ESEA (20 U.S.C. 7491(3)), which includes individuals who are Alaska Natives and members of federally recognized or State recognized Tribes;

(2) Native Hawaiian; or

(3) Native American Pacific Islander. (ESEA secs. 6151(3) and 8101(34))

Native American language means the historical, traditional languages spoken by Native Americans. (ESEA sec. 8101(34))

Tribal college or university means an institution that—

(1) Qualifies for funding under the Tribally Controlled Colleges and Universities Assistance Act of 1978 (25 U.S.C. 1801, et seq.) or the Navajo Community College Act (25 U.S.C. 640a note); or

(2) Is cited in section 532 of the Equity in Educational Land-Grant Status Act of 1994 (7 U.S.C. 301 note). (ESEA sec. 6133 and section 316 of the Higher Education Act of 1965, as amended)

Tribe means either a federally recognized Tribe or a State-recognized Tribe.

Program Authority: 20 U.S.C. 7453.

Note: Projects will be awarded and must be operated in a manner consistent with the nondiscrimination requirements contained in the Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The NFP.

Note: The open licensing requirement in 2 CFR 3474.20 does not apply to this program.

Note: The regulations in 34 CFR part 79 apply to all applicants except federally recognized Indian Tribes.

Note: The regulations in 34 CFR part 86 apply to IHEs only.

II. Award Information

Type of Award: Discretionary grants.

Estimated Available Funds: The Administration requested $12,365,000 for Indian Education National Activities for FY 2024, of which we intend to use an estimated $2,400,000 for this competition. The actual level of funding, if any, depends on final congressional action. However, we are inviting applications to allow enough time to complete the grant process if Congress appropriates funds for this program.

Contingent upon the availability of funds and the quality of applications, we may make additional awards in FY 2024 and subsequent years from the list of unfunded applications from this competition.

Estimated Range of Awards: $300,000-$400,000.

Estimated Average Size of Awards: $350,000.

Estimated Number of Awards: 4.

Note: The Department is not bound by any estimates in this notice.

Project Period: Up to 36 months.

III. Eligibility Information

1. Eligible Applicants: The following entities, either alone or in a consortium, that have a plan to develop and maintain, or to improve and expand, programs that support the entity's use of a Native American or Alaska Native language as the primary language of instruction in one or more elementary or secondary schools (or both) are eligible under this program:

(a) An Indian Tribe.

(b) A Tribal College or University (TCU).

(c) A Tribal education agency.

(d) An LEA, including a public charter school that is an LEA under State law.

(e) A school operated by the Bureau of Indian Education (BIE).

(f) An Alaska Native Regional Corporation (as described in section 3(g) of the Alaska Native Claims Settlement Act (43 U.S.C. 1602(g))).

(g) A private, Tribal, or Alaska Native nonprofit organization.

(h) A non-Tribal for-profit organization.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: Under ESEA section 6133(g), no more than five percent of funds awarded for a grant under this program may be used for administrative purposes. Note that, since fiscal year 2020, Congress has included language in appropriations acts to clarify that the statutory 5 percent limit does not include indirect costs. In the event such language is not included in the FY 2024 appropriations act, the Department will work with successful applicants to make budget adjustments to align with administrative cost restrictions, if necessary.

3. Other: Projects funded under this competition must budget for a two-day Project Directors' meeting in Washington, DC, during each year of the project period. This meeting may be held virtually if conditions warrant such a format.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application.

2. Submission of Proprietary Information: Given the types of projects that may be proposed in applications for this competition, your application may include business information that you consider proprietary. In 34 CFR 5.11 we define “business information” and describe the process we use in determining whether any of that information is proprietary and, thus, protected from disclosure under Exemption 4 of the Freedom of Information Act (5 U.S.C. 552, as amended).

Because we plan to make successful applications available to the public by posting them on our website, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Recommended Page Limit: The application narrative is where you, the applicant, address the selection criteria that reviewers use to evaluate your application. We recommend that you (1) limit the application narrative to no more than 30 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, the letter(s) of support, or the signed consortium agreement. However, the recommended page limit does apply to all of the application narrative. An application will not be disqualified if it exceeds the recommended page limit.

5. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria. The selection criteria for this competition are from the NFP and 34 CFR 75.210. The source of each selection criterion, and the maximum possible score for addressing each criterion and subcriterion, is included in parentheses. The maximum possible score for addressing all of the criteria in this section is 100 points.

In evaluating an application, the Secretary considers the following criteria:

(a) Quality of the project design (32 points).

The Secretary considers the quality of the design of the proposed project. In determining the quality of the design of the proposed project, the Secretary considers the following factors:

(1) The extent to which the goals, objectives, and outcomes to be achieved by the proposed project are clearly specified and measurable. (9 points) (34 CFR 75.210(c)(2)(i))

(2) The extent to which the project design will ensure that students' progress toward grade-level and developmentally appropriate fluency in the Native American language. (6 points) (NFP)

(3) The extent to which the proposed project will incorporate parent engagement and participation in Native American language instruction. (6 points) (NFP)

(4) The quality of the approach to developing and administering pre- and post-assessments of student Native American language proficiency, including consultation with individuals with assessment expertise, as needed. (6 points) (NFP)

(5) The extent to which the performance feedback and continuous improvement are integral to the design of the proposed project. (5 points) (34 CFR 75.210 (c)(2)(xxi))

(b) Quality of project services (29 points). The Secretary considers the quality of the services to be provided by the proposed project. In determining the quality of the services to be provided by the proposed project, the Secretary considers the following factors:

(1) The quality and sufficiency of strategies for ensuring equal access and treatment for eligible project participants who are members of groups that have traditionally been underrepresented based on race, color, national origin, gender, age, or disability. (1 point) (34 CFR 75.210(d)(2))

(2) The quality of the plan for supporting grade-level and developmentally appropriate instruction in a Native American language by providing instruction of or through the Native American language. (11 points) (NFP)

(3) The extent to which the project will provide professional development for teachers and, as appropriate, staff and administrators to strengthen the overall language proficiency and academic goals of the school(s) that will be served by the project, including cultural competence training for all staff in the school(s). (10 points) (NFP)

(4) The extent to which the services to be provided by the proposed project involve the collaboration of appropriate partners for maximizing the effectiveness of project services. (4 points) (34 CFR 75.210(d)(3)(ix))

(5) The extent to which the percentage of the school day that instruction will be provided in the Native American language is ambitious and is reasonable for the grade level and population served. (3 points) (NFP)

(c) Quality of project personnel (16 points).

The Secretary considers the quality of the personnel who will carry out the proposed project. In determining the quality of project personnel, the Secretary considers:

(1) The extent to which the applicant encourages applications for employment from persons who are members of groups that have traditionally been underrepresented based on race, color, national origin, gender, age, or disability. (1 point) (NFP)

(2) The extent to which teachers of the Native American language who are identified as staff for this project have teaching experience and are fluent in the Native American language. (9 points) (NFP)

(3) The qualifications, including relevant training and experience, of key project personnel. (6 points) (34 CFR 75.210(e)(3)(ii))

(d) Adequacy of resources (10 points).

The Secretary considers the adequacy of resources for the proposed project. In determining the adequacy of resources for the proposed project, the Secretary considers:

(1) The extent to which the costs are reasonable in relation to the objectives, design, and potential significance of the proposed project. (6 points) (34 CFR 75.210(f)(2)(iv))

(2) The potential for continued support of the project after Federal funding ends, including, as appropriate, the demonstrated commitment of appropriate entities to such support. (4 points) (34 CFR 75.210(f)(2)(vi))

(e) Quality of the management plan (13 points).

The Secretary considers the quality of the management plan for the proposed project. In determining the quality of the management plan for the proposed project, the Secretary considers:

(1) The adequacy of the management plan to achieve the objectives of the proposed project on time and within budget, including clearly defined responsibilities, timelines, and milestones for accomplishing project tasks. (8 points) (34 CFR 75.210(g)(2)(i))

(2) The extent to which the time commitments of the project director and principal investigator and other key project personnel are appropriate and adequate to meet the objectives of the proposed project. (5 points) (34 CFR 75.210(g)(2)(iv))

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management (SAM). You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: For the purpose of Department reporting under 34 CFR 75.110, we have established the following performance measures for the NAL@ED program:

(a) The number and percentage of students who attain proficiency in a Native language as determined by each grantee through pre- and post-assessments of Native language proficiency;

(b) The number and percentage of participating students who make progress in learning a Native language, as determined by each grantee, through pre- and post-assessments of Native language proficiency;

(c) The number and percentage of participating students who show an improvement in academic outcomes, as measured by academic assessments or other indicators; and

(d) The difference between the average daily attendance of participating students and the average daily attendance of all students in the comparison group (e.g., school, LEA, Tribe, or other).

These measures constitute the Department's indicators of success for this program. Consequently, we advise an applicant for a grant under this program to carefully consider these measures in conceptualizing the approach to, and evaluation for, its proposed project. Each grantee will be required to provide, in its annual performance and final reports, data about its progress in meeting these measures.

5. Continuation Awards: In making a continuation award under 34 CFR 75.253, the Secretary considers, among other things, whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Adam Schott,
Deputy Assistant Secretary for Policy and Programs, Delegated the Authority To Perform the Functions and Duties of the Assistant Secretary, Office of Elementary and Secondary Education.

[FR Doc. 2023-26216 Filed 11-27-23; 8:45 am]

BILLING CODE 4000-01-P